DEPARTMENT OF LABOR

Agency Information Collection Activities; Submission for OMB Review; Comment Request; Evaluation of Strategies Used in America's Promise Job Driven Grant Program Evaluation

AGENCY: Office of the Assistant Secretary for Policy, Chief Evaluation Office, Department of Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95)]. This program helps to ensure that requested data can be provided in the desired format, reporting burden (time and financial resources) is minimized, collection instruments are clearly understood, and the impact of collection requirements on respondents is properly assessed.

Currently, the Department of Labor is soliciting comments concerning the collection of data about the Evaluation of Strategies Used in America's Promise Job Driven Grant Program Evaluation. A copy of the proposed Information Collection Request (ICR) can be obtained by contacting the office listed below in the addressee section of this notice.

DATES: Written comments must be submitted to the office listed in the addressee section below on or before September 11, 2017.

ADDRESSES: You may submit comments by either one of the following methods:

Email: ChiefEvaluationOffice@dol.gov; Mail or Courier: Megan Lizik, Chief Evaluation Office, OASP, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Megan Lizik by email at ChiefEvaluationOffice@dol.gov.

SUPPLEMENTARY INFORMATION: I. Background: The Chief Evaluation Office (CEO) of the U.S. Department of Labor (DOL) intends to design and conduct an evaluation to assess the success of the America's Promise Job Driven Grant Program (America's Promise). The goal of this project is to build knowledge about the effectiveness and implementation of the program.

The evaluation will include two components, an implementation study and an impact study. The goal of the impact evaluation is to understand how programs and strategies funded under America's Promise affect the outcomes of participants using an experimental or quasi-experimental design in a subset of three sites. The goal of the implementation evaluation is to understand program design and implementation for all 23 grantees, including more detailed focus on implementation in 12 grantees and a measurement of partnerships and systems change in six grantees.

This Federal Register Notice provides the opportunity to comment on proposed data collection instruments that will be used in the evaluation:

* Grantee survey. To understand early implementation experiences, the project will field a web-based survey to all America's Promise grantees promptly after the receipt of OMB clearance, likely in spring 2018. This survey will gather information about grantee characteristics, services and operations, partner recruitment methods, partners' characteristics, strategies for engaging employers, employer participation by sector, and early implementation challenges.

* Partner network survey. To measure partnership development and resulting systems change, the project will select up to six grantees to participate in two rounds of a web-based partner network survey with up to 25 primary partners. The survey will be fielded in spring 2018 and early 2020.

* Baseline information forms (BIFs). In sites selected for the impact study, applicants will complete a BIF prior to random assignment. The BIF will collect demographics, education history, work history, and contact information. Whenever possible, BIFs will be collected electronically through the study's web-based random assignment system (RAS).

* Study random assignment system (RAS). The study RAS will be a web-based system used by program staff to enter an initial record for each applicant and initiate the baseline information form for the applicant to complete. The system will then conduct random assignment and monitor the integrity of random assignment.

* Text survey. Between completion of the baseline information form and a follow-up survey (which will be included in a future information request), the evaluation will use texting to ask a short series of questions of study participants who were part of random assignment. Questions will include employment status, hours worked in the current week, if any training has recently been completed or is ongoing, and satisfaction with a training program or activity that was recently completed by participants at that site.

A future information collection request will include site visit and telephone interview protocols as well as a follow-up survey of members of the treatment and control groups.

II. Desired Focus of Comments: Currently, the Department of Labor is soliciting comments concerning the above data collection for the Evaluation of Strategies Used in the America's Promise Job Driven Grant Program Evaluation. DOL is particularly interested in comments that do the following:

* Evaluate whether the proposed collection of information is necessary for the proper performance functions of the agency, including whether the information will have practical utility;

* Evaluate the accuracy of the agency's burden estimate of the proposed information collection, including the validity of the methodology and assumptions;

* Enhance the quality, utility, and clarity of the information to be collected; and

* Minimize the burden of the collection of information on those who are to respond, including through the use of appropriate automated, electronic, mechanical, or other technological collection techniques or other forms of information technology—for example, permitting electronic submissions of responses.

III. Current Actions: At this time, the Department of Labor is requesting clearance for the grantee survey, partner network survey, baseline information forms, study random assignment system, and text survey.

Type of Review: New information collection request.

OMB Control Number: 1290-0NEW.

Affected Public: America's Promise Job Driven Grant Program Evaluation applicants, grantees, and partners.

Estimated Total Burden Hours
Respondents | Total number respondents | Annual number of respondents | Number of responses per respondent | Average burden time per response (hours) | Annual estimated burden | Estimated total burden (hours)
Implementation Study
Web-based survey of grantees | 23 | 7.67 | 1 | .50 | 3.84 | 11.5
Web-based survey of partners | * 150 | 50 | 2 | .33 | 33 | 100
Impact Study
Baseline Information Form | 3,000 | 1,000 | 1 | 0.25 | 250 | 750
Grantee staff RAS data entry | 3 | 1 | 1,000 | .08 | 80 | 240
Text Survey | ¹ 2,400 | 800 | 1 | 0.25 | 200 | 600
Total | ² 3,176 |  |  |  | 566.84 | 1,701.5
* Assumes 25 partners per 6 grantees.
¹ Assumes a sample of 3000 with an 80 percent response rate.
² So as not to double-count participants who complete the baseline intake form and then also complete the text survey, this total only counts the 3000 from the baseline intake form. However, all hours are calculated for the total burden.

Comments submitted in response to this request will be summarized and/or included in the request for Office of Management and Budget approval of the information collection request; they will also become a matter of public record.

Dated: June 30, 2017.
Molly Irwin,
Chief Evaluation Officer, U.S. Department of Labor.

[FR Doc. 2017-14607 Filed 7-11-17; 8:45 am]

BILLING CODE 4510-HX-P